NATIONAL AERONAUTICS AND SPACE ADMINISTRATION

48 CFR Parts 1807 and 1817

Acquisition Planning and Special Contracting Methods

CFR Correction

In Title 48 of the Code of Federal Regulations, Chapters 15 to 28, revised as of October 1, 2006, on page 185, reinstate section 1807.7201, and on page 204, reinstate section 1817.7300 to read as follows:

1807.7201 Definitions.

Class of contracts means a grouping of acquisitions, either by dollar value or by the nature of supplies and services to be acquired.

Contract opportunity means planned new contract awards exceeding $25,000.

1817.7300 Definitions.

(a) Down-selection. In a phased acquisition, the process of selecting contractors for later phases from among the preceding phase contractors.

(b) Phased Acquisition. An incremental acquisition implementation comprised of several distinct phases where the realization of program/project objectives requires a planned, sequential acquisition of each phase. The phases may be acquired separately, in combination, or through a down-selection strategy.

(c) Progressive Competition. A type of down-selection strategy for a phased acquisition. In this method, a single solicitation is issued for all phases of the program. The initial phase contracts are awarded, and the contractors for subsequent phases are expected to be chosen through a down-selection from among the preceding phase contractors. In each phase, progressively fewer contracts are awarded until a single contractor is chosen for the final phase. Normally, all down-selections are accomplished without issuance of a new, formal solicitation.

[FR Doc. 07-55517 Filed 9-27-07; 8:45 am]

BILLING CODE 1505-01-D